DEPARTMENT OF COMMERCE

National Oceanic and Atmospheric Administration

RIN 0648-XD467

North Pacific Fishery Management Council; Public Meeting

AGENCY: National Marine Fisheries Service (NMFS), National Oceanic and Atmospheric Administration (NOAA), Commerce.

ACTION: Notice of a public meeting.

SUMMARY: The North Pacific Fishery Management Council (Council) will hold a public outreach meeting on the Bering Sea Fishery Ecosystem Plan (FEP).

DATES: The meeting will be held on September 15, 2014, from 3 p.m. to 5:30 p.m.

ADDRESSES: The meeting will be held at the School of Fisheries and Aquatic Sciences, University of Washington, 1122 NE Boat Street, Room 203, Seattle, WA.

Council address: North Pacific Fishery Management Council, 605 W. 4th Ave., Suite 306, Anchorage, AK 99501-2252.

FOR FURTHER INFORMATION CONTACT: Diana Evans, Council staff, telephone: (907) 271-2809.

SUPPLEMENTARY INFORMATION: The Council is considering whether to prioritize time and resources to develop a Bering Sea Fishery Ecosystem Plan. The Council is interested in hearing from local residents and communities, as well as agencies, organizations and the general public, about the objectives and structure of the FEP, prior to decision-making. Interested stakeholders are encouraged to present their concerns and suggestions as the Council proceeds with this effort. The Council is seeking the following input from stakeholders: (1) What should be the objectives of the Bering Sea FEP? What questions should the FEP answer? (2) What kind of actions should be considered in the FEP? Should the FEP provide specific or general guidance for fishery management? (for example, strategies to respond to climate change, preserve subsistence fishing and hunting resources, maintain healthy populations of top level predators, etc.) (3) Would the FEP provide added value over existing Council documents, and if so, how? More information is posted at http://www.npfmc.org/.

Special Accommodations

The meeting is physically accessible to people with disabilities. Requests for sign language interpretation or other auxiliary aids should be directed to Gail Bendixen at (907) 271-2809 at least 7 working days prior to the meeting date.

Dated: August 25, 2014.
William D. Chappell,
Acting Deputy Director, Office of Sustainable Fisheries, National Marine Fisheries Service.

[FR Doc. 2014-20533 Filed 8-28-14; 8:45 am]

BILLING CODE 3510-22-P29AU3.